DEPARTMENT OF COMMERCE

International Trade Administration

[A-337-808]

Certain Glass Wine Bottles From Chile: Termination of Less-Than-Fair-Value Investigation

AGENCY: Enforcement and Compliance, International Trade Administration, Department of Commerce.

SUMMARY: Based on a withdrawal of the antidumping duty (AD) petition on certain glass wine bottles from Chile by the U.S. Glass Producers Coalition (the petitioner), we are terminating this less than-fair-value (LTFV) investigation.

DATES: Applicable December 30, 2024.

FOR FURTHER INFORMATION CONTACT: Dusten Hom or Joshua Weiner, AD/CVD Operations, Office I, Enforcement and Compliance, International Trade Administration, U.S. Department of Commerce, 1401 Constitution Avenue NW, Washington, DC 20230; telephone: (202) 482-5075 or (202) 482-3902, respectively.

SUPPLEMENTARY INFORMATION:

Background

On December 29, 2023, the U.S. Department of Commerce (Commerce) received an AD petition concerning imports of certain glass wine bottles from Chile, filed in proper form by the petitioner.¹ On January 25, 2024, Commerce published the notice of initiation of this LTFV investigation.² On August 9, 2024, Commerce published its preliminary determination in the LTFV investigation of certain glass wine bottles from Chile.³ On December 10, 2024, the petitioner submitted a letter withdrawing the AD Petition with respect to Chile.⁴ On December 16, 2024, Saverglass, Inc.; Saverglass S. de R.L. de C.V.; Fevisa Comercial S.A. de C.V.; Fevisa Industrial S.A. de C.V; Encore Glass; and TricorBraun Inc. (collectively, the interested parties) filed opposition to the petitioner's withdrawal of the AD Petition with respect to Chile.⁵ On December 18, 2024, the petitioner filed a response to the interested parties' opposition.⁶ On December 20, 2024, interested parties filed additional comments opposing termination of the investigation.⁷

¹ See Petitioner's Letter, “Certain Glass Wine Bottles from the People's Republic of China, the United Mexican States, and Chile: Petitions for the Imposition of Antidumping and Countervailing Duties,” dated December 29, 2023 (AD Petition).

² See Certain Glass Wine Bottles from Chile, the People's Republic of China, and Mexico: Initiation of Less-Than-Fair-Value Investigations, 89 FR 4911 (January 25, 2024).

³ See Certain Glass Wine Bottles from Chile: Preliminary Affirmative Determination of Sales at Less Than Fair Value, Postponement of Final Determination, and Extension of Provisional Measures, 89 FR 65325 (August 9, 2024) (Preliminary Determination), and accompanying Preliminary Decision Memorandum.

⁴ See Petitioner's Letter, “Withdrawal of Petition,” dated December 10, 2024.

⁵ See Interested Parties' Letter, “Response to Petitioner's Request to Terminate Investigation,” dated December 16, 2024.

⁶ See Petitioner's Letter, “Petitioner's Reply to Response to Petitioner's Request to Terminate the Investigation,” dated December 18, 2024.

⁷ See Interested Parties' Letter, “Response to Petitioner's December 18, 2024 Letter,” dated December 20, 2024.

Termination of the Investigation

Section 351.207(b)(1) of Commerce's regulations stipulates that the Secretary may terminate an investigation, provided it has concluded that termination of the investigation is in the public interest.⁸ After considering the information on the record of this proceeding, including the petitioner's withdrawal letter, and the comments received from interested parties, Commerce has concluded that termination of this investigation is in the public interest. Accordingly, pursuant to section 734(a)(1)(A) of the Tariff Act of 1930, as amended and 19 CFR 351.207(b)(1), we are terminating the LTFV investigation of certain glass wine bottles from Chile.

⁸ See GPX Intern. Tire Corp. v. United States, 893 F. Supp. 2d 1296, 1311 (CIT 2013) (“the trade remedy laws are designed to buffer domestic industries from the harm caused by competing with . . . subsidized or dumped foreign products . . . This purpose is supported by the floor statements that focused on leveling the competitive playing field to protect domestic industries, rather than the general public” (citing 158 Cong. Rec. H1166-73 (daily ed. Mar. 6, 2012)); see also Federal-Mogul Corp. v. United States, 63 F.3d 1572, 1575 (Fed. Cir. 1995) (“To protect domestic industries from unfair competition by imported products, United States law imposes a duty on dumped goods, that is, goods sold in this country at a price lower than they sell for in their home market”); and Smith-Corona Group v. United States, 713 F.2d 1568, 1576 (Fed. Cir. 1983) (“Congress sought to afford the domestic manufacturer strong protection against dumping”).

Suspension of Liquidation

In the Preliminary Determination, Commerce determined weighted-average dumping margins for exporters of certain glass wine bottles from Chile that were above de minimis. Therefore, we instructed U.S. Customs and Border Protection (CBP) to suspend liquidation of entries of certain glass wine bottles from Chile as of August 9, 2024, the date of publication of the Preliminary Determination.⁹ Because Commerce is terminating this LTFV investigation, we will instruct U.S. Customs and Border Protection to terminate suspension of liquidation and refund any cash deposits of estimated antidumping duties for entries of certain glass wine bottles from Chile.

⁹ See Preliminary Determination, 89 FR 65326.

Administrative Protective Order

This notice serves as a reminder to parties subject to administrative protective order (APO) of their responsibilities concerning the disposition of proprietary information disclosed under APO in accordance with 19 CFR 351.305(a)(3). Timely written notification of the return or destruction of APO materials or conversion to judicial protective order is hereby requested. Failure to comply with the regulations and the terms of an APO is a violation that is subject to sanction.

Dated: December 20, 2024.
Abdelali Elouaradia,
Deputy Assistant Secretary for Enforcement and Compliance.

[FR Doc. 2024-31349 Filed 12-27-24; 8:45 am]

BILLING CODE 3510-DS-P